DEPARTMENT OF TRANSPORTATION

Surface Transportation Board

[Docket No. FD 35831]

Grainbelt Corporation—Trackage Rights Exemption—BNSF Railway Company and Stillwater Central Railroad, LLC

BNSF Railway Company (BNSF) and Stillwater Central Railroad, LLC f/k/a Stillwater Central Railroad, Inc. (SLWC), pursuant to written trackage rights agreements dated April 1, 2014, and May 21, 2014, respectively, have each agreed to amend their trackage rights agreements with Grainbelt Corporation (GNBC),¹ which together will allow GNBC to provide local service to a grain shuttle facility in Eldorado, Okla. (between Altus and Quanah). Specifically, BNSF is amending its trackage rights with GNBC regarding service over the connecting line between the connection with SLWC east of Long (milepost 668.73) and Quanah (milepost 723.30), and SLWC is amending its trackage rights with GNBC regarding service between Snyder Yard (milepost 664.00) and its connection with BNSF east of Long (milepost 668.73).²

¹ GNBC already held overhead trackage rights granted by the predecessor of BNSF between Snyder Yard, Okla. (milepost 664.00) and Quanah, Tex. (milepost 723.30), under which GNBC has the right to interchange at Quanah with BNSF and Union Pacific Railroad Company. BNSF subsequently sold a portion of the subject trackage to SLWC. The original trackage rights were supplemented in 2009 to allow GNBC to operate between Snyder and Altus, Okla., with the right to perform limited local service at Long, Okla. See Grainbelt Corp.—Trackage Rights Exemption—BNSF Ry. & Stillwater Cent. R.R., FD 35332 (STB served Dec. 17, 2009). The trackage rights were further amended in 2013 to allow GNBC to provide local grain service to a shuttle facility at Headrick, Okla. See Grainbelt Corp.—Trackage Rights Exemption—BNSF Ry. & Stillwater Cent. R.R., FD 35719 (STB served Mar. 15, 2013). The original and supplemental trackage rights would not be affected by the amended trackage rights that are the subject of this proceeding.

² Redacted versions of the trackage rights agreements between GNBC/BNSF and GNBC/SLWC were filed with the notice of exemption. The full versions of the agreements, as required by 49 CFR 1180.6(a)(7)(ii), were concurrently filed under seal along with a motion for protective order. That motion will be addressed in a separate decision.

The transaction may be consummated on or after June 26, 2014, the effective date of the exemption (30 days after the verified notice was filed).

The purpose of this transaction is to allow GNBC to provide local, single system service between the grain shippers located on GNBC, including GNBC's affiliate, Farmrail Corporation, and the grain shuttle facility located at Eldorado. The parties' agreements provide that the trackage rights will automatically expire on February 1, 2023.³

³ GNBC states that this filing is related to a simultaneously filed petition in Grainbelt Corporation—Trackage Rights Exemption—BNSF Railway & Stillwater Central Railroad, Docket No. 35831 (Sub-No. 1), for partial revocation of the exemption to permit the amended trackage rights to expire upon the expiration date of the previous amendment to the trackage rights, February 1, 2023. The Board will address that petition in a subsequent decision.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If it contains false or misleading information, the exemption is void ab initio. Petitions to revoke the exemption under 49 U.S.C. 10502(d) may be filed at any time. The filing of a petition to revoke will not automatically stay the effectiveness of the exemption. Stay petitions must be filed by June 19, 2014 (at least seven days before the exemption becomes effective).

An original and 10 copies of all pleadings, referring to Docket No. FD 35831, must be filed with the Surface Transportation Board, 395 E Street SW., Washington, DC 20423-0001. In addition, a copy of each pleading must be served on Eric M. Hocky, Clark Hill, PLC, One Commerce Square, 2005 Market Street, Suite 1000, Philadelphia, PA 19103.

Board decisions and notices are available on our Web site at www.stb.dot.gov.

Decided: June 9, 2014.
By the Board, Rachel D. Campbell, Director, Office of Proceedings.
Derrick A. Gardner,
Clearance Clerk.

[FR Doc. 2014-13768 Filed 6-11-14; 8:45 am]

BILLING CODE 4915-01-P